DEPARTMENT OF DEFENSE

Office of the Secretary

Renewal of Department of Defense Federal Advisory Committees

AGENCY: DoD.

ACTION: Renewal of Defense Policy Board.

SUMMARY: The Department of Defense gives notice that it is renewing the charter for the Defense Policy Board. This notice describes the Board's purpose, reporting procedures, and how the public or interested organizations may submit written statements to the Board membership about the Board's mission and functions.

FOR FURTHER INFORMATION CONTACT: Jim Freeman, Advisory Committee Management Officer for the Department of Defense, 703-692-5952.

SUPPLEMENTARY INFORMATION: This committee is being renewed under the provisions of 10 U.S.C. 2166(e), the Federal Advisory Committee Act of 1972 (5 U.S.C. Appendix), the Government in the Sunshine Act of 1976 (5 U.S.C. 552b), and 41 CFR 102-3.50(a).

The Board, through the Under Secretary of Defense for Policy (USD(P)), provides the Secretary of Defense and the Deputy Secretary of Defense, independent, informed advice and opinions concerning matters of defense policy and in response to specific tasks from the Secretary of Defense, the Deputy Secretary of Defense or the USD(P). The Board shall focus on: (a) Issues central to strategic Department of Defense (DoD) planning; (b) policy implications of U.S. force structure and force modernization on DoD's ability to execute U.S. defense strategy; (c) U.S. regional defense policies; and (d) any other topics raised by the Secretary of Defense, the Deputy Secretary of Defense, or the USD(P).

The Board shall report to the Secretary of Defense through the USD(P). The USD(P) may act upon the Board's advice and recommendations. The Board shall be comprised of no more than 24 members who have distinguished backgrounds in defense and national security affairs. Board members appointed by the Secretary of Defense or the Deputy Secretary of Defense, who are not full-time or permanent part-time federal employees, shall be appointed as experts and consultants under the authority of 5 U.S.C. 3109 to serve as special government employee (SGE) members. Board members shall serve a term of service of one-to-four years on the Board, subject to annual renewals. No member may serve more than two consecutive terms of service without Secretary or Deputy Secretary of Defense approval.

The Secretary of Defense shall select the Board's Chair from the membership at large. In addition, the Secretary of Defense appoints the chairs of the Defense Business Board and the Defense Science Board as non-voting ex-officio members of the Board, whose appointments shall not count toward the Board's total membership. With the exception of travel and per diem for official travel, all Board members shall serve without compensation.

The USD(P), pursuant to DoD policies and procedures, and as deemed necessary, may appoint non-voting subject matter experts (SMEs) to assist the Board or its subcommittees on an ad hoc basis. These non-voting SMEs are not members of the Board or its subcommittees and will not engage or participate in any deliberations by the Board or its subcommittees unless the Secretary of Defense or the Deputy Secretary of Defense specifically invites them to participate in the deliberations according to DoD policies and procedures. These non-voting SMEs, if not full-time or permanent part-time Government employees, will be appointed as experts and consultants under the authority of 5 U.S.C. 3109 to serve on an intermittent basis to address specific issues under consideration by the Board.

The Department, when necessary and consistent with the Board's mission and DoD policies and procedures, may establish subcommittees, task groups, or working groups to support the Board. Establishment of subcommittees will be based upon a written determination, to include terms of reference, by the Secretary of Defense, the Deputy Secretary of Defense, or the USD(P). If the Department determines that the establishment of subcommittees is warranted, the Board's charter must be amended prior to such establishment.

The Board shall meet at the call of the Board's DFO, in consultation with the Board's chairperson and the USD(P). The estimated number of Board meetings is four per year. In addition, the DFO is required to be in attendance at all Board and subcommittee meetings for the entire duration of each and every meeting; however, in the absence of the DFO, the Alternate DFO shall attend the entire duration of the Board or subcommittee meeting.

Pursuant to 41 CFR 102-3.105(j) and 102-3.140, the public or interested organizations may submit written statements to the Board membership about the Board's mission and functions. Written statements may be submitted at any time or in response to the stated agenda of planned meeting of the Board.

All written statements shall be submitted to the DFO, and this individual will ensure that the written statements are provided to the membership for their consideration. Contact information for the Board's DFO can be obtained from the GSA's FACA Database— http://facasms.fido.gov/.

The DFO, pursuant to 41 CFR 102-3.150, will announce planned meetings of the Board. The DFO, at that time, may provide additional guidance on the submission of written statements that are in response to the stated agenda for the planned meeting in question.

Dated: September 5, 2013.
Aaron Siegel,
Alternate OSD Federal Register Liaison Officer, Department of Defense.

[FR Doc. 2013-22021 Filed 9-10-13; 8:45 am]

BILLING CODE 5001-06-P